DEPARTMENT OF AGRICULTURE

Submission for OMB Review; Comment Request

June 7, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 12, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: APHIS Pest Reporting and Asian Longhorned Beetle Program.

OMB Control Number: 0579-0311.

Summary of Collection: Under the Plant Protection Act (7 U.S.C. 7701, et seq.), the Secretary of Agriculture is authorized to prohibit or restrict the importation, entry, or movement of plants and plant pests to prevent the introduction of plant pests into the United States or their dissemination within the United States. Plant health regulations promulgated by the United States Department of Agriculture under this authority specifically address control programs for a number of pests and disease of concern, including Asian Longhorn Beetle (ALB), emerald ash borer (EAB) beetle, and citrus greening, to name a few. The Animal and Plant Health Inspection Service (APHIS) will collect information using form PPQ-10, Plant Protection and Quarantine Pest Reporting Form and PPQ form 375, Asian Longhorned Beetle Unified Survey and other information collection activities.

Need and Use of the Information: APHIS relies on the public to report sightings of the pests of concern or suspicious signs of pest or disease damage they may see in their local area. This reporting will be done through simple online forms PPQ-10, Plant Protection and Quarantine Pest Reporting Form and PPQ form 375, Asian Longhorned Beetle Unified Survey and the following additional information collection activities: (1) Cooperative Agreement for Inspection, (2) State Compliance Training Workshop Records, (3) Contract for Inspection, (4) Permission to Inspect from Homeowner, (5) Refusal to Inspect from Homeowner, (6) Chemical Treatment Release from Homeowner, (7) Letters Warning of Litigations and Warrants; (8) Litigations/Warrants; (9) Homeowner to Sign for Tree Removal, (10) Removals/Monitoring, (11) Contract for Treatment; (12) Removals/Disposal, (13) Disposal/Marshalling Yard, (14) Tree Warrant, and (15) Certificate/Permit Cancellation Appeal. Failing to collect this information could result in APHIS not receiving information about where infestations may exist, causing them to linger unreported and grow. Infestations of high-consequence pests or diseases, such as ALB, EAB, citrus greening, and others, could lead to significant economic damage to crops, forests, and landscapes.

Description of Respondents: Individuals or households; Business or other for-profit; State, Local or Tribal Government.

Number of Respondents: 7,055.

Frequency of Responses: Reporting: On occasion.

Total Burden Hours: 438,779.

Ruth Brown,
Departmental Information Collection Clearance Officer.

[FR Doc. 2017-12068 Filed 6-9-17; 8:45 am]

BILLING CODE 3410-34-P